Title 3—

The President

Proclamation 8333 of December 30, 2008

National Mentoring Month, 2009

By the President of the United States of America

A Proclamation

During National Mentoring Month, we recognize the millions of individuals who dedicate themselves to making a difference in the lives of others, and we underscore our commitment to supporting these soldiers in America's armies of compassion.

Every day across our great Nation, men and women of many different backgrounds work to inspire our next generation of leaders. By sharing their time and experiences, mentors help instill important values that encourage America's youth to set high goals and achieve their dreams. Mentors demonstrate that the strength of our Nation lies in the hearts and souls of our citizens and that a positive influence in someone's life helps them secure a more hopeful future.

My Administration has been committed to building a culture of service, citizenship, and responsibility. Through the Mentoring Children of Prisoners program, volunteers help provide consistent guidance and support so that these children can lead lives of opportunity and achievement. The USA Freedom Corps is strengthening mentoring opportunities in America and spreading a message of hope across our Nation. The Helping America's Youth initiative, led by First Lady Laura Bush, motivates caring adults to connect with youth to help them to grow up to be responsible and successful adults. By working together, we can enrich the lives of our next generation and continue a legacy of kindness and encouragement.

I appreciate our Nation's mentors and all those who contribute to their community by helping to change a child's life. For more information on volunteering to be a mentor, visit volunteer.gov. During National Mentoring Month, we honor the many Americans who have touched the lives of others with their compassion, and we reflect on their efforts toward building a stronger and brighter future for all.

NOW, THEREFORE, I, GEORGE W. BUSH, President of the United States of America, by virtue of the authority vested in me by the Constitution and laws of the United States, do hereby proclaim January 2009 as National Mentoring Month. I call upon the people of the United States to recognize the importance of mentoring, to look for opportunities to serve as mentors in their communities, and to observe this month with appropriate activities and programs.

IN WITNESS WHEREOF, I have hereunto set my hand this thirtieth day of December, in the year of our Lord two thousand eight, and of the Independence of the United States of America the two hundred and thirty-third.

[FR Doc. E9-113

Filed 1-6-09; 8:45 am]

Billing code 3195-W9-P